DEPARTMENT OF ENERGY

Federal Energy Regulatory Commission

Notice of Intent to File Application for a New License

July 25, 2001.

Take notice that the following notice of intent has been filed with the Commission and is available for public inspection:

a. Type of filing: Notice of Intent to File an Application for New License.

b. Project No: 2204.

c. Date filed: July 3, 2001.

d. Submitted By: Denver Board of Water Commissioners.

e. Name of Project: Williams Fork Reservoir Hydroelectric Project.

f. Location: State of Colorado, Grand County, on the Williams Fork River.

g. Filed Pursuant to: Section 15 of the Federal Power Act, 18 CFR 16.6.

h. Pursuant to Section 16.19 of the Commission's regulations, the licensee is required to make available the information described in Section 16.7 of the regulations. Such information is available from the licensee at Central Records, Denver Water, 1600 W. 12th Ave., Denver, Colorado 80204.

i. FERC Contact: Dianne Rodman, 202 219-2830, Dianne.Rodman@FERC.FED.US

j. Expiration Date of Current License: December 31, 2006.

k. William Fork reservoir and power plant, appurtenant facilities, other structures, fixtures, and equipment useful in the maintenance of the project and located in the project area.

l. The licensee states its unequivocal intent to submit an application for a new license or exemption from license for Project No. 2204. Pursuant to 18 CFR 16.9(b)(1) each application for a new license and any competing license applications must be filed with the Commission at least 24 months prior to the expiration of the existing license. All applications for license for this project must be filed by December 31, 2004.

m. Copies of this filing are on file with the Commission and are available for public inspection. This filing may also be viewed on the web at http://www.ferc.gov using the “RIMS” link, select “Docket#” and follow the instructions (call 202-208-2222 for assistance).

Comments, protests and interventions may be filed electronically via the Internet in lieu of paper. See, 18 CFR 385.2001(a)(1)(iii) and the instructions on the Commission's web site under the “e-Filing” link.

Linwood A. Watson, Jr.,
Acting Secretary.

[FR Doc. 01-19003 Filed 7-30-01; 8:45 am]

BILLING CODE 6717-01-P